DEPARTMENT OF THE INTERIOR

National Park Service

Notice of Inventory Completion: Colorado Historical Society, Denver, CO; Correction

AGENCY: National Park Service, Interior.

ACTION: Notice; correction.

Notice is here given in accordance with the Native American Graves Protection and Repatriation Act (NAGPRA), 25 U.S.C. 3003, of the completion of an inventory of human remains and associated funerary objects in the possession of the Colorado Historical Society, Denver, CO. The human remains and associated funerary objects were removed from known and unknown locations in Colorado, Arizona, New Mexico, and Utah.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of associated funerary objects from 345 to 451, and the minimum number of individuals from 361 to 373, in a Notice of Inventory Completion published in the Federal Register (69 FR 68162-68169, November 23, 2004).

In the Federal Register of November 23, 2004, at page 68163, paragraph number 2 is corrected by the addition of one associated funerary object, and by substituting the following paragraph:

Prior to 1890, human remains representing a minimum of two individuals were removed by Richard Wetherill, Al Wetherill, and Charlie Mason from unidentified sites in the Mesa Verde area, Montezuma County, CO. The human remains (O.701.1, O.2249.1) were initially sold to Charles McLoyd, who sold the collection to the Colorado Historical Society in 1890. No known individuals were identified. One associated funerary object, O.247.1, a black-on-white ceramic plate, is present. Cranial morphology is consistent with physical features common to Ancient Puebloan populations. Ancient Puebloan occupation of the Mesa Verde area dates from approximately 1000 B.C. to A.D. 1300.

In the Federal Register of November 23, 2004, at page 68163, paragraph number 6 is corrected by deleting one individual and two associated funerary objects, and by substituting the following paragraph:

Prior to 1892, human remains representing a minimum of 21 individuals were removed by either Arthur Wilmarth or Al and Richard Wetherill from the Mesa Verde area in Montezuma County, CO. The human remains (O.680.1, O.683.1, O.690.1, O.713.1, O.715.1, O.721.1, O.722.1, O.1731.1, O.1733.2, O.1734.1, O.1735.1, O.1736.1, O.1741.1, O.735.1, O.673.1, O.674.1, O.676.1, O.2252.1, O.2267.1, O.6017.1, UHR.171) were accessioned by the Colorado Historical Society in 1892. The 10 associated funerary objects (O.432.1, O.285.1, O.1733.3, O.1733.1, O.1729.1, O.1736.1.b, O.188.2, O.1741.1.b, O.7405.45, O.935.1) are a black-on-white ceramic mug, two black-on-white ceramic bowls, a black-on-white ceramic pitcher, a cotton shirt, a buckskin shirt, a feather blanket, and three single sandals. The original provenience within the Mesa Verde region from which these human remains were removed is unknown. Arthur Wilmarth, Al and Richard Wetherill and D.W. Ayers excavated numerous sites in the Mesa Verde area (including Tower House, Balcony House, Cliff Palace, Mug House, Mummy House, Step House, and Spruce Tree House) at different times. Items recovered from earlier excavations led by the Wetherills were sold to Charles McLoyd, who sold the collection to the Colorado Historical Society in 1890. Later excavations led by Arthur Wilmarth were funded by the Colorado State Legislature and items from the excavations were displayed at the Columbian Exposition at the Chicago World's Fair in 1893. These items were transferred to the Colorado Historical Society later the same year. Cranial morphology is consistent with physical features common to Ancient Puebloan populations. Ancient Puebloan occupation of the Mesa Verde area generally dates from approximately 1000 B.C. to A.D. 1300.

In the Federal Register of November 23, 2004, at page 68164, paragraph number 2 is corrected by deleting one associated funerary ojbect, and by substituting the following paragraph:

Prior to 1893, human remains representing a minimum of four individuals were removed by either Arthur Wilmarth or Al and Richard Wetherill from Mummy House (5MV524), Montezuma County, CO. It is likely that these individuals were removed during excavations funded by the Colorado State Legislature and led by Wilmarth, along with the Wetherill brothers and D.W. Ayers, to develop an exhibit for the Columbian Exposition at the Chicago World's Fair in 1893, and the individuals were transferred to the Colorado Historical Society that same year (O.714.1, O.1732.1, O.1737.1 [1-2]). The five associated funerary objects (O.4903.1.a-e) are a feather blanket, cotton cloth, a piece of cotton twine, a hide, and one wooden object. Cranial morphology is consistent with physical features common to Ancient Puebloan populations. Cultural items associated with the burials are diagnostic of Ancient Puebloan technological traditions. Ancient Puebloan occupation of the Mesa Verde area generally dates from approximately 1000 B.C. to A.D. 1300.

In the Federal Register of November 23, 2004, at page 68164, paragraph number 3 is corrected by adding two individuals, and by substituting the following paragraph:

In the early 1900s, human remains representing a minimum of three individuals were removed by the family of Mrs. Margery Stanley from an unknown location in Arizona. The human remains (OAHP Case Number 211) were transferred by the Denver Office of the Medical Examiner to the Colorado Office of Archaeology and Historic Preservation (OAHP, part of the Colorado Historical Society) in 2003. No known individual was identified. No associated funerary objects are present. Cranial morphology is consistent with physical features common to Ancient Puebloan populations. Ancient Puebloan sites in the southwestern United States generally date between approximately 1000 B.C. and A.D. 1300.

In the Federal Register of November 23, 2004, at page 68164, paragraph number 8 is corrected by deleting one individual, and by substituting the following paragraph:

In 1928 and 1929, human remains representing a minimum of four individuals were removed by Paul Martin from Little Dog Ruin (site 5MT13403), Montezuma County, CO. The human remains (O.2233.1, O.2234.1, O.2235.1, O.2236.1) were accessioned by the Colorado Historical Society in 1929. No known individual was identified. The three associated funerary objects (O.2159.1, O.2233.B, O.2233.C) are a black-on-white bowl, a basket fragment, and a pine needle brush. Cranial morphology is consistent with physical features common to Ancient Puebloan populations. The cultural items associated with the burials are diagnostic of Ancient Puebloan technological traditions. Occupation of Little Dog Ruin dates to the Pueblo III period, from approximately A.D. 1140 to 1300.

In the Federal Register of November 23, 2004, at page 68165, paragraph number 3 is corrected by deleting one associated funerary object, and by substituting the following paragraph:

Prior to 1930, human remains representing a minimum of three individuals were removed by Jean A. Jeancon and Frank H.H. Roberts from unidentified sites on Stollsteimer Mesa, Archuleta County, CO. The human remains (O.2240.1, O.2241.1, O.2242.1) were accessioned by the Colorado Historical Society in 1930. No known individuals were identified. No associated funerary objects are present. Cranial morphology is consistent with physical features common to Ancient Puebloan populations. Ancient Puebloan occupation of Stollsteimer Mesa generally dates from approximately 1000 B.C. to A.D. 1300.

In the Federal Register of November 23, 2004, at page 68165, paragraph number 5 is corrected by deleting one individual and adding one associated funerary object, and by substituting the following paragraph:

In 1935, human remains representing a minimum of six individuals were removed by Harold Westesen from an unknown location on Dove Creek, Dolores County, CO. Mr. Westesen donated the human remains (O.7359.1, O.7360.1.A, O.7360.2, O.7360.3, O.7360.4.A, O.7360.4.B) to the Montrose Chamber of Commerce, who transferred them to the Colorado Historical Society in 1956. No known individuals were identified. The two associated funerary objects (O.7359.18 & 19), a black-on-white ceramic sherd and a red-on-brown ceramic sherd are present. Cranial morphology is consistent with physical features common to Ancient Puebloan populations. The cultural items associated with the burials are diagnostic of Ancient Puebloan technological traditions. Ancient Puebloan occupation of the Dove Creek area generally dates from approximately 1000 B.C. to A.D. 1300.

In the Federal Register of November 23, 2004, at page 68165, paragraph number 7 is corrected by deleting one individual, and by substituting the following paragraph:

Prior to 1944, human remains representing a minimum of 133 individuals were removed by avocational collector James Mellinger from unspecified sites in Colorado, New Mexico, Arizona, or Utah. Mr. Mellinger donated the human remains to the Colorado Historical Society between 1944 and 1951 (CHS accession numbers 78.98.1, 3-10, 13-17, 19, 21-22, 24-35, 38-39, 42-45, 48-51, 53-70, 72-80, 82-96, 98-100; 78.99.2-21, 23-49; JS.2; O.1728.1). No known individuals were identified. The one associated funerary object (O.1728.3) is a woven mat. Mr. Mellinger is known to have collected primarily in the Four Corners region of the southwestern United States. The morphology of the human remains is consistent with physical features common to Ancient Puebloan populations. The cultural item associated with the burials is diagnostic of Ancient Puebloan technological traditions. Ancient Puebloan occupation of the southwestern United States generally dates from approximately 1000 B.C. to A.D. 1300.

In the Federal Register of November 23, 2004, at page 68167, paragraph number 5 is corrected by changing the excavator and one site number, and the addition of three associated funerary objects and 15 individuals, by substituting the following paragraph:

In 1993, human remains representing a minimum of 21 individuals were removed by SWCA Environmental Consultants from sites 5MT9168, 5MT9343, 5MT11861, and 5MT7522, Montezuma County, CO. Originally, six individuals (OAHP Case Number 88) were transferred to the Colorado Office of Archaeology and Historic Preservation (OAHP, part of the Colorado Historical Society) in 1993 by James Hummert. The removal was done pursuant to a state permit. No known individuals were identified. No associated funerary objects were present. In 2007, human remains representing 15 additional individuals (OAHP Case Number 237) were transferred by SWCA Environmental Consultants from site 5MT7522. They had been excavated in 1993, but had been overlooked until 2007. No known individuals were identified. Three associated funerary objects were identified and transferred. The three associated funerary objects are two groundstone artifacts and one lot of ceramic sherds making up a Mancos black-on-white bowl. Cranial morphology is consistent with physical features common to Ancient Puebloan populations. Cultural items associated with the burials are diagnostic of Ancient Puebloan technological traditions. Occupation of site 5MT7522 dates from the Basketmaker III to the Pueblo II period, from approximately A.D. 450 to A.D. 1050.

In the Federal Register of November 23, 2004, at page 68167, paragraph number 9 is corrected by deleting two individuals and adding 100 sherds to the number of associated funerary objects, by substituting the following paragraph:

In 1995, human remains representing a minimum of one individual were removed by Fort Lewis College from site 5LP117, La Plata County, CO. The human remains (OAHP Case Number 112) were transferred to the Colorado Office of Archaeology and Historic Preservation (OAHP, part of the Colorado Historical Society) in 1995. The removal was done pursuant to a state permit. No known individual was identified. The 116 associated funerary objects are one lot (115) of ceramic sherds (grayware, black-on-white ware, Fugitive Redware black-on-white and Fugitive Redware) and one tubular bone bead. Cranial morphology is consistent with physical features common to Ancient Puebloan populations. Cultural items associated with the burials are diagnostic of Ancient Puebloan technological traditions. Occupation of site 5LP117 dates to the Basketmaker II /III, from approximately 1000 B.C. to A.D. 750.

In the Federal Register of November 23, 2004, at page 68168, paragraph number 5 is corrected by adding one individual and one lot of ceramic sherds, by substituting the following paragraph:

In 1998, human remains representing a minimum of four individuals were removed by La Plata Archaeological Consultants from site 5LP425, La Plata County, CO. The human remains (OAHP Case Number 139) were transferred to the Colorado Office of Archaeology and Historic Preservation (OAHP, part of the Colorado Historical Society) in 1999. The removal was done pursuant to a state permit. No known individual was identified. Associated funerary objects consist of one lot (190) of ceramic sherds (grayware and whiteware). Cranial morphology is consistent with physical features common to Ancient Puebloan populations. The cultural items associated with the burials are diagnostic of Ancient Puebloan technological traditions. Occupation of site 5LP425 dates from approximately 1000 B.C. to A.D. 750.

In the Federal Register of November 23, 2004, at page 68168, paragraph number 10 is corrected by deleting one individual and adding two objects, by substituting the following paragraph:

In 1998 and 1999, human remains representing a minimum of four individuals were removed by Complete Archaeological Services from Stix and Leaves Pueblo (site 5MT11555), Montezuma County, CO. The human remains (OAHP Case Number 161) were transferred to the Colorado Office of Archaeology and Historic Preservation (OAHP, part of the Colorado Historical Society) in 2002. Excavations at Stix and Leaves Pueblo were conducted pursuant to a state permit. At the time of removal, site 5MT11555 was located on private land. No known individuals were identified. Associated funerary objects consist of two perforated dog canines, possibly earrings. Cranial morphology is consistent with physical features common to Ancient Puebloan populations. Occupation of Stix and Leaves Pueblo dates to the Pueblo I-II periods, from approximately A.D. 750 to 1300.

In the Federal Register of November 23, 2004, at page 68168, paragraph number 11 is corrected by changing the years of excavation and the name of the site, and deletes two individuals and two associated funerary objects, by substituting the following paragraph:

Between 1998 and 2002, human remains representing a minimum of 26 individuals were removed by staff from Fort Lewis College from the Darkmold Site (5LP4991), La Plata County, CO. Excavations at the Darkmold Site were conducted pursuant to a state permit. At the time of removal, site 5LP4991 was located on private land. The human remains and associated funerary objects (OAHP Case Number 156) were transferred to the Colorado Office of Archaeology and Historic Preservation (OAHP, part of the Colorado Historical Society) between 1999 and 2004. No known individuals were identified. The 111 associated funerary objects are 84 Olivella beads, 5 Haliotis pendants, 1 chlorite schist pipe, 1 chlorite schist pendant, 2 bone beads, 3 bone awls, 1 biface, 1 bone tool, 1 utilized flake, 2 lithic cores, 1 lithic tool, 2 manos, 1 lithic chopper, 1 shell, 4 shell beads, and 1 projectile point. Cranial morphology is consistent with physical features of Ancient Puebloan populations. Cultural items associated with the burials are diagnostic of Ancient Puebloan technological traditions. Occupation of the Darkmold Site dates to the Basketmaker II period, from 1000 B.C. to A.D. 500.

In the Federal Register of November 23, 2004, at page 68169, paragraph number 2 is corrected by adding one individual and one associated funerary object, by substituting the following paragraph:

In 2000, human remains representing a minimum of two individuals were removed by staff from Fort Lewis College from site 5LP5980, La Plata County, CO. The human remains (OAHP Case Number 183) were transferred to the Colorado Office of Archaeology and Historic Preservation (OAHP, part of the Colorado Historical Society) in 2002. Excavations at site 5LP5980 were conducted pursuant to a state permit. At the time of removal, site 5LP5980 was located on private land. No known individual was identified. The four associated funerary objects consist of three small gray ceramic pots and one deer scapula hoe. Cranial morphology is consistent with physical features common to Ancient Puebloan populations. Occupation of site 5LP5980 dates to the Basketmaker II/III period, from approximately 1500 B.C. to A.D. 750.

In the Federal Register of November 23, 2004, at page 68169, paragraph number 3 is corrected by adding two individuals and three associated funerary objects, by substituting the following paragraph:

In 2003, human remains representing a minimum of three individuals were removed by Charles Wheeler from site 5LP7347 on the grounds of Fort Lewis College, La Plata County, CO. The human remains (OAHP Case Number 208) were transferred to the Colorado Office of Archaeology and Historic Preservation (OAHP, part of the Colorado Historical Society) in 2003. No known individual was identified. Three associated funerary objects consist of one metate, one metate fragment and one piece of fire-cracked rock. Occupation of 5LP7347 dates to the Basketmaker II/III period, from approximately 1500 B.C. to A.D.750.

Finally, in the Federal Register of November 23, 2004, at page 68169, paragraph 8 is corrected by substituting the following paragraph:

Determinations. Under 25 U.S.C. 3003, museum officials have determined that the human remains represent the physical remains of 373 individuals of Native American ancestry. Museum officials determined that the 451 cultural items are reasonably believed to have been placed with or near individual human remains at the time of death or later as part of the death rite or ceremony. Museum officials determined that the human remains and associated funerary objects are culturally affiliated with the Indian tribes listed in Summary.

Representatives of any other Indian tribe that believes itself to be culturally affiliated with the human remains and associated funerary objects should contact Sheila Goff, NAGPRA Liaison, Colorado Historical Society, 1300 Broadway, Denver, CO 80203, telephone number (303) 866-4531, before March 3, 2010. Repatriation of the human remains and the associated funerary objects to the Hopi Tribe of Arizona; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico may proceed after that date if no additional claimants come forward.

The Colorado Historical Society is responsible for notifying the Apache Tribe of Oklahoma; Fort McDowell Mohave-Apache Indian Community of the Fort McDowell Indian Reservation, Arizona; Fort Sill Apache Tribe of Oklahoma; Gila River Indian Community of the Gila River Indian Reservation, Arizona; Hopi Tribe of Arizona; Hualapai Indian Tribe of the Hualapai Indian Reservation, Arizona; Jicarilla Apache Nation, New Mexico; Navajo Nation, Arizona, New Mexico & Utah; Ohkay Owingeh, New Mexico; Paiute Indian Tribe of Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Southern Ute Indian Tribe of the Southern Ute Reservation, Colorado; Tonto Apache Tribe of Arizona; Ute Indian Tribe of the Uintah & Ouray Reservation, Utah; Ute Mountain Tribe of the Ute Mountain Reservation, Colorado, New Mexico & Utah; White Mountain Apache Tribe of the Fort Apache Reservation, Arizona; Yavapai-Apache Nation of the Camp Verde Indian Reservation, Arizona; Ysleta del Sur Pueblo of Texas; and Zuni Tribe of the Zuni Reservation, New Mexico that this notice has been published.

Dated: November 25, 2009
Sherry Hutt,
Manager, National NAGPRA Program.

[FR Doc. 2010-2014 Filed 1-29-10; 8:45 am]

BILLING CODE 4312-50-S